DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Revised Management Plan for the Wells (Maine) National Estuarine Research Reserve.

SUMMARY: Notice is hereby given that the Estuarine Reserves Division, Office of Ocean and Coastal Resource Management, National Ocean Service, National Oceanic and Atmospheric Administration (NOAA), U.S. Department of Commerce is announcing a thirty day public comment period on the revised Wells (Maine) National Estuarine Research Reserve Management Plan which will begin on the day this announcement is published. Comments should be sent within the comment period in hard copy or e-mail to Doris Grimm at Doris.Grimm@noaa.gov or NOAA's Estuarine Reserves Division, 1305 East-West Highway, N/ORM5, 10th floor, Silver Spring, MD 20910.

The Wells National Estuarine Research Reserve was designated in February 1984 pursuant to Section 315 of the Coastal Zone Management Act of 1972, as amended, 16 U.S.C. 1461. Pursuant to 15 CFR 921.33(c), a state must revise its management plan every five years. The reserve has been operating under a management plan approved in 1996. The submission of this plan fulfills this requirement and sets a course for successful implementation of the goals and objectives of the reserve.

Since the last management plan, the Wells Reserve acquired two key parcels of land, changed its boundary, constructed needed facilities, and has implemented several system-wide programs. It acquired the 27-acre Alheim property and the 2½-acre Lord parcel, and changed its boundary to include 359 acres of the watershed areas of the Reserve. The Reserve built the Maine Coastal Ecology Center, new interpretive exhibits, the Alheim Commons dormitory, and the Forest Learning Shelter, and equipped and opened the Coastal Resource Library. This new management plan serves as the primary guidance document for the operation of the Wells Reserve's core and system-wide programs in research and monitoring, education and coastal training, and resource management and stewardship. The plan provides guidance on the acquisition of land to be added to the Reserve and on the construction and renovation of buildings and exhibits that support NERR programs. It also guides the Reserve in important related programs, such as volunteerism and outreach to communities to encourage stewardship of coastal resources in southern Maine.

The Wells Reserve is a public/private partnership whose administrative oversight is vested in the Reserve Management Authority (RMA). This independent state agency was established in 1990 to support and promote the interests of the Wells Reserve. The RMA has a Board of Directors composed of representatives having a property, management, or program interest in the Wells Reserve. The RMA members represent the Maine Department of conservation, the U.S. Fish and Wildlife Service, the Town of Wells, the Laudholm Trust, the Maine State Planning Office, and the National Oceanic and Atmospheric Administration.

FOR FURTHER INFORMATION CONTACT: Doris Grimm at (301) 563-7107 or Laurie McGilvray at (301) 563-1158 of NOAA's National Ocean Service, Estuarine Reserves Division, 1305 East-West Highway, N/ORM5, 10th floor, Silver Spring, MD 20910. For copies of the Wells Management Plan revision, visit http://www.wellsreserve.org.

Dated: July 20, 2007.
David M. Kennedy,
Director, Office of Ocean and Coastal Resource Management, National Oceanic and Atmospheric Administration.

[FR Doc. E7-14487 Filed 7-25-07; 8:45 am]

BILLING CODE 3510-08-P